DEPARTMENT OF EDUCATION

Office of Special Education and Rehabilitative Services; List of Correspondence

AGENCY: Department of Education.

ACTION: List of Correspondence from January 1, 2009 through March 31, 2009.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA.

FOR FURTHER INFORMATION CONTACT: Laura Duos or Mary Louise Dirrigl. Telephone: (202) 245-7468.

If you use a telecommunications device for the deaf (TDD), you can call the Federal Relay Service (FRS), toll free, at 1-800-877-8339.

Individuals with disabilities can obtain a copy of this notice in an accessible format (e.g., braille, large print, audiotape, or computer diskette) on request to the contact persons listed under FOR FURTHER INFORMATION CONTACT.

SUPPLEMENTARY INFORMATION: The following list identifies correspondence from the Department issued from January 1, 2009 through March 31, 2009. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 611—Authorization; Allotment; Use of Funds; Authorization of Appropriations

Topic Addressed: State-Level Activities

○ Letter dated January 15, 2009 to Ohio Department of Education Chief Counsel Matthew J. DeTemple, regarding whether funds reserved for State-level activities under Part B of the IDEA can be used in conjunction with other State and Federal funds to provide technical assistance to schools and local educational agencies (LEAs) identified for correction or improvement under the Elementary and Secondary Education Act of 1965, as amended by the No Child Left Behind Act of 2001.

Topic Addressed: Subgrants to Local Educational Agencies

○ Letter dated February 13, 2009 to District of Columbia Attorney Leigh M. Manasevit, regarding how population and poverty payments are calculated for a State School for the Blind and a State Department of Juvenile Services that have established their eligibility under Part B of the IDEA.

○ Letter dated February 4, 2009 to Minnesota Department of Education Supervisor of the Division of Program Finance Carol Hokenson, clarifying how the requirements for State educational agencies to allocate funds under Part B of the IDEA to eligible LEAs apply to cooperatives and member districts in Minnesota.

Section 612—State Eligibility

Topic Addressed: Children in Private Schools

○ Letter dated March 26, 2009 to Missouri Attorney Teri B. Goldman, clarifying the requirements in Part B of the IDEA that apply when a parent re-enrolls their parentally-placed private school or home-schooled child with a disability in a public school.

○ Letter dated January 28, 2009 to Maryland Attorney Michael J. Eig, clarifying that the LEA of the parent's residence, not the LEA where the private school the child attends is located, is responsible for conducting an evaluation for purposes of making a free appropriate public education available to a child who did not previously receive special education services from the LEA of residence and is parentally-placed in a private school located in another LEA.

Topic Addressed: Least Restrictive Environment

○ Letter dated March 30, 2009 to individual (personally identifiable information redacted), concerning the requirements for a continuum of alternative placements and clarifying that the least restrictive environment requirements in Part B of the IDEA are applicable to children with disabilities who attend public charter schools.

Section 615—Procedural Safeguards

Topic Addressed: Impartial Due Process Hearings

○ Letter dated January 15, 2009 to Massachusetts Commissioner of Education Mitchell D. Chester, concerning the requirements in Part B of the IDEA for impartial due process hearing officers and mediators.

Part C—Infants and Toddlers With Disabilities

Section 641—State Interagency Coordinating Council

Topic Addressed: Composition

○ Letter dated January 28, 2009 to Rhode Island State Interagency Coordinating Council (SICC) Chairperson Dawn Wardyga, concerning parent membership on the SICC.

Electronic Access to This Document

You can view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Delegation of Authority: The Secretary of Education has delegated authority to Andrew J. Pepin, Executive Administrator for Special Education and Rehabilitative Services to perform the functions of the Assistant Secretary for Special Education and Rehabilitative Services.

Dated: August 31, 2009.
Andrew J. Pepin,
Executive Administrator for Special Education and Rehabilitative Services.

[FR Doc. E9-21434 Filed 9-3-09; 8:45 am]

BILLING CODE 4000-01-P